DEPARTMENT OF HOMELAND SECURITY

Transportation Security Administration

Intent To Request Renewal From OMB of One Current Public Collection of Information: TSA Airspace Waiver Program

AGENCY: Transportation Security Administration, DHS.

ACTION: 60-day notice.

SUMMARY: The Transportation Security Administration (TSA) invites public comment on one currently approved Information Collection Request (ICR), Office of Management and Budget (OMB) control number 1652-0033, abstracted below that we will submit to OMB for renewal in compliance with the Paperwork Reduction Act (PRA). The ICR describes the nature of the information collection and its expected burden. This collection of information allows TSA to conduct security threat assessments on individuals on board aircraft operating in restricted airspace pursuant to an airspace waiver or flight authorization.

DATES: Send your comments by November 2, 2015.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0033; TSA Airspace Waiver Program. TSA is seeking approval to renew this collection of information. The airspace waiver program allows U.S. and foreign general aviation aircraft operators to apply for approval to operate in U.S. restricted airspace, including over flying the United States and its territories. This program includes both processing of applications for airspace waivers and flight authorizations for the DCA Access Standard Security Program flights, which entails name-based security threat assessments for all passengers, flight crews and armed security officers on board each flight. TSA uses the information to conduct security threat assessments of persons on these flights to protect against and mitigate threats to transportation security.

TSA collects information from applicants applying for a waiver or flight authorization either online via https://waivers.faa.gov, or by completing a waiver or flight authorization form requested via facsimile. It is recommended that applicants submit the request electronically within five business days prior to the start date of the flight. To obtain a waiver, the aircraft operator must submit information about the flight and provide certain information about all passengers and crew on board the flight for TSA to perform a security threat assessment on each individual. To obtain a flight authorization, the aircraft operator must submit information about all passengers, flight crews and armed security officers on board each flight for TSA to perform a name-based security threat assessment on each individual. Specifically, waiver or flight authorization requests must include the purpose of the flight, the aircraft type and registration number, including aircraft operator's company name and address, and the proposed itinerary. Additionally, aircraft operators must provide the names, dates and places of birth, and Social Security or passport numbers of all passengers, crew and in the case of flight authorization, armed security officers. The current estimated annual reporting burden is 7,099 hours.

Issued in Arlington, Virginia, on August 24, 2015.
Christina A. Walsh,
TSA Paperwork Reduction Act Officer, Office of Information and Technology.

[FR Doc. 2015-21697 Filed 8-31-15; 8:45 am]

BILLING CODE 9110-05-P